DEPARTMENT OF COMMERCE

National Oceanic and Atmospheric Administration

[RTID 0648-XA194]

Caribbean Fishery Management Council; Public Meeting

AGENCY: National Marine Fisheries Service (NMFS), National Oceanic and Atmospheric Administration (NOAA), Commerce.

ACTION: Notice of a public meeting.

SUMMARY: The Caribbean Fishery Management Council's (Council) Ecosystem-Based Fishery Management Technical Advisory Panel (EBFM TAP) will hold a two-day virtual meeting to address the items on the tentative agenda included in the SUPPLEMENTARY INFORMATION.

DATES: The virtual meetings will be held on Monday, June 1, 2020, from 9 a.m. to 5 p.m., and Tuesday, June 2, 2020, from 9 a.m. to 5 p.m. All meetings will be at Eastern Standard Time.

ADDRESSES: You may join the EBFM TAP virtual meetings (via GoToMeeting) from a computer, tablet or smartphone by entering the following address:

Please join the meeting from your computer, tablet or smartphone. https://global.gotomeeting.com/join/985065749.

You can also dial in using your phone. United States: +1 (571) 317-3122, Access Code: 985-065-749. Join from a video-conferencing room or system. Dial in or type: 67.217.95.2 or inroomlink.goto.com, Meeting ID: 985 065 749, or dial directly: 985065749@67.217.95.2 or 67.217.95.2##985065749.

You may download the GoToMeeting app now to be ready when the meeting starts: https://global.gotomeeting.com/install/985065749.

FOR FURTHER INFORMATION CONTACT: Graciela García-Moliner, Caribbean Fishery Management Council, 270 Muñoz Rivera Avenue, Suite 401, San Juan, Puerto Rico 00918-1903; telephone: (787) 403-8337.

SUPPLEMENTARY INFORMATION: The following items included in the tentative agenda will be discussed:

June 1, 2020, 9 a.m.-10 a.m.

—Call to Order

—Roll Call

—Adoption of the Agenda

—Review of Minutes from Virtual Meeting (February 20, 2020)

10 a.m.-10:15 a.m.

—Break

10:15 a.m.-11:30 a.m.

—Development of the Caribbean Fishery Ecosystem Plan

—Introduction/Background—Bill Arnold

—Development of the FEP

1. Purpose and Need/Goals and Objectives

11:30 a.m.-1 p.m.

—Lunch Break

1 p.m.-1:30 p.m.

2. Management/Legal Background—Jocelyn D'Ambrosio, SERO

1:30 p.m.-3 p.m.

3. Update—Ecosystem-Based Efforts: What is Going on?

a. Lenfest—JJ Cruz Motta, Tarsila Seara, Stacey Williams

b. Update EBFM TAP—Orian Tzadik

c. Status of the Ecosystem (ESR)—Kelly Montenero, SEFSC

d. SSC Report—Richard Appeldoorn, SSC Chair

e. DAPs CMs

f. OEAP Stakeholder Strategy—Alida Ortiz

g. Relationship and Synergy Among All Points Above and IBFMPs

h. Others

3 p.m.-3:15 p.m.

—Break

3:15 p.m.-5 p.m.

4. Island-Based Considerations Update—María López, SERO

a. U.S. Virgin Islands

i. St. Croix

ii. St. Thomas/St. John

b. Puerto Rico

5. U.S. Caribbean Considerations

a. SERO/NOAA Restoration Center

b. NMFS/SERO Habitat Conservation Division

6. Caribbean Basin Considerations

7. Regional/Global Considerations

8. Management Within an Ecosystem Context

9. Research Needs

June 2, 2020, 9 a.m.-10 a.m.

—Continue Discussion from Previous Day

10 a.m.-10:15 a.m.

—Break

10:15 a.m.-12 p.m.

—Draft List of FEP Components:

—Risk Analysis

—Ecosystem Status Report

—Integrated Ecosystem Report

—Conceptual and Quantitative Models

—Socio-Economics

—Strategies for `Population' Status Assessments (How Are Assessments Conducted Within an Ecosystem Context, Species/Species Group/Management Group Level, etc.)

—Other Components

12 p.m.-1 p.m.

—Lunch Break

1 p.m.-2:30 p.m.

—Continue Discussion of FEP Components

2:30 p.m.-2:45 p.m.

—Break

2:45 p.m.-5 p.m.

—Recommendations to the CFMC

—Other Business

The order of business may be adjusted as necessary to accommodate the completion of agenda items. The meetings will begin on June 1, 2020, at 9 a.m. EST, and will end on June 2, 2020, at 5 p.m. EST. Other than the start time, interested parties should be aware that discussions may start earlier or later than indicated, at the discretion of the Chair.

Special Accommodations

For any additional information on this virtual meetings, please contact Dr. Graciela García-Moliner, Caribbean Fishery Management Council, 270 Muñoz Rivera Avenue, Suite 401, San Juan, Puerto Rico, 00918-1903, telephone: (787) 403-8337.

Authority: 16 U.S.C. 1801 et seq.

Dated: May 15, 2020.
Tracey L. Thompson,
Acting Deputy Director, Office of Sustainable Fisheries, National Marine Fisheries Service.

[FR Doc. 2020-10908 Filed 5-19-20; 8:45 am]

BILLING CODE 3510-22-P